FEDERAL COMMUNICATIONS COMMISSION

47 CFR Parts 1, 21, 61, 73, 74 and 76

[OMD Docket No. 00-205; FCC 01-246]

Adoption of a Mandatory FCC Registration Number

AGENCY: Federal Communications Commission.

ACTION: Final rules.

SUMMARY: The Commission amends its rules to require persons and entities doing business with the agency to obtain a unique identifying number, called the FCC Registration Number (FRN), through the Commission Registration System (CORES), and to provide the number when doing business with the agency. The FRN requirement is being adopted to better manage the Commission's financial systems and comply with various statutes governing the financial management of agency accounts.

DATES: Effective December 3, 2001.

FOR FURTHER INFORMATION CONTACT: Mark A. Reger, Chief Financial Officer (202) 418-1924 (policy and technical issues); Laurence H. Schecker, Office of General Counsel (202) 418-1720 (legal issues).

SUPPLEMENTARY INFORMATION: By this document, the Commission amends its rules to require persons and entities doing business with the Commission to obtain a unique identifying number called the FCC Registration Number (FRN) and supply it when doing business with the Commission.

This proceeding was instituted as a step in our efforts to better manage our financial systems, to improve compliance with various statutes that govern the financial operations of the Federal government, and to improve the efficiency of agency processes for the benefit of the public. We have considered the eight comments and two reply comments received in response to the Notice of Proposed Rulemaking (NPRM), 65 FR 78455 (Dec. 15, 2000). In this order, we adopt a new subpart W to part 1 of our rules, 47 CFR part 1, and cross-reference this new subpart where appropriate in our other rules, to require persons and entities doing business with the Commission to acquire an FRN and to provide it with all applications or feeable filings as well as other transactions involving the payment of money. The rules are set forth in the rule changes, and are substantially as we proposed in the NPRM. We have made various editorial changes and changes in response to the comments received as discussed in this decision.

The Need for the Identifying Number

In the NPRM we explained at length the need to adopt a 10-digit unique identifier, the FRN, and our choice of the Commission Registration System (CORES) as the mechanism for assigning the FRN to entities doing business with the Commission. No commenting parties questioned our view that we needed to take steps to improve the management of our financial systems. A mandatory FRN is part of a long-range solution to better manage our financial systems. Adoption of a new requirement such as the FRN will engender implementation issues. We intend to address any problems that arise from the implementation of the CORES expeditiously. We appreciate the comments that pointed out existing and potential problems, and welcome the opportunity to address those concerns.

While many commenting parties generally support the FRN, the FCBA urged the Commission “not to impose any new FRN requirements without taking a simultaneous, comprehensive look at its proposal in the context of the other ‘numbers,’ ‘passwords,’ and ‘identifiers’ already in use at the Commission.” As we have noted, we believe we must implement the FRN requirement as soon as possible. Both the General Accounting Office and the Commission's own Inspector General have concluded that the Commission must improve its collection systems. Adopting a mandatory FRN is among the first steps necessary to correct deficiencies in our financial management systems that have come to our attention.

The FRN will have multiple benefits to the Commission and the public. The FRN will enable us to ensure that fees are recorded and credited to the proper party. This will result in fewer letters requesting confirmation of payments and make it easier for us to respond to inquiries. The FRN will enable us to keep better records of entities that are exempt from paying fees. It will help us to maintain the integrity and efficiency of our collection systems and correct deficiencies identified in our accounting systems. The FRN will eliminate repetitive collection of data while providing us with a database to provide electronic mailings, such as annual fee materials and other informational mailings, to the public doing business with the Commission.

One of the main reasons we are adopting the FRN requirement is to facilitate compliance with the Debt Collection Improvement Act of 1996 (DCIA), sections 8 and 9 of the Communications Act, and the regulations implementing these statutes. These statutes and regulations permit us to withhold the processing or ultimate grant of a license, application, or other authorization where the applicant has not paid the application fees or is delinquent in its debts to the Commission. The FRN, in conjunction with the Revenue Accounting and Management Information System (RAMIS), will enable us to perform fee and debt sufficiency checks to better manage our collection and revenue systems.

We realize that the manner in which our electronic systems have developed has resulted in a multiplicity of numbers, passwords and identifiers. For the reasons noted, we cannot afford to delay this necessary step toward improved financial management of the agency's receivables. Indeed, the creation of a single unique customer identification number is the best approach to solving a long-standing problem. Using the FRN as a unique customer identifier will improve communication between the Commission's various electronic systems by automating fee sufficiency checks and by facilitating other systems' party validation processes. Implementing the FRN is the first step toward streamlining this aspect of electronic filing services for our customers. The Commission has placed a very high priority on the development of a common data structure for all systems to use for new development as well as enhancements to existing systems. One of our long-range goals is to replace unnecessary numbers of other identifiers with the FRN. As the electronic filing systems incorporate the CORES and the FRN into their application process, the need to maintain registration information in multiple systems will be eliminated. In FY 2002, we plan to initiate a review to determine how to simplify the passwords and identifiers used by the agency's electronic systems, as suggested by the FCBA.

Disney commented on problems concerning the revised FCC Form 159 and the Commission's existing payment and electronic filing systems. While there have been problems with the revised Form 159, those deficiencies are being corrected. In particular, we will have Form 159 available in Adobe Acrobat format to allow users to prepare the form on line. This will resolve many if not all problems encountered thus far with Form 159. We encourage the public to utilize the electronic version of Form 159.

The NAB correctly observed that the CORES does not allow a licensee to check on the status of an application. The CORES was never intended to serve as an application tracking system. That function is performed by individual licensing systems. The CORES is a registration system and database used to ensure that entities are meeting applicable fee requirements and are current in all financial obligations. The various Bureau and Office filing systems are being reprogrammed to incorporate the FRN, but those systems remain the vehicle for checking application status.

NECA commented that the administrator of the Commission's schools and libraries support mechanism, the Universal Service Administrative Company (USAC), also uses the acronym “FRN.” Specifically, USAC assigns a “Funding Request Number” to each individual request for discounted services submitted by a school or library. USAC, schools and libraries, and the service providers who provide the discounted services all use the FRN to track the individual funding requests. Service providers are also required to reference specific USAC Funding Request Numbers when submitting invoices to USAC for reimbursement of the discounted portion of the services they provide to schools and libraries. In addition, service providers are required to list their Service Provider Identification Number, which is a provider-specific identification number assigned by USAC for tracking purposes.

We recognize that there could be some confusion to the extent that service providers were required to include both the USAC Funding Request Numbers and the Commission FRN on the same request for reimbursement. To minimize this potential confusion, we are working with USAC to develop a relational database system that will allow the correlation of a service provider's Service Provider Identification Number assigned by USAC with the FRN assigned by the Commission. This database system will obviate the need for service providers to supply a Commission FRN when seeking reimbursement from USAC. In conjunction with USAC, we will also take steps to educate carriers and the public about this matter to eliminate any confusion.

Multiple FRNs

We sought comment on whether we should limit the number of FRNs that an entity may obtain and whether we should penalize entities that abuse the CORES by obtaining multiple FRNs. We agree with the commenters that indicated we should not limit the number of FRNs that may be obtained. This will permit members of a corporate family to obtain individual FRNs, whether or not those entities have different taxpayer identifying numbers (TINs). We wish to allow entities to organize their dealings with the Commission along logical business lines. We will not adopt the proposal for a sub-group identification number as a means for linking related entities because the Commission can link entities through the TIN information.

Our decision to allow multiple FRNs means that entities will be responsible for ensuring that the proper FRN is used for the payment being submitted to the Commission. While all transactions for a license should use the FRN obtained by the entity for that license so that a link between and among transactions is maintained, the licensing bureaus and offices will not reject subsequent applications or filings that provide different FRNs over the life cycle of the license, unless improper use of multiple FRNs by the entity is found. If an entity applies for a license using one FRN and remits regulatory fees or other payments using another FRN, it will appear in the database that the entity did not pay the proper fees. We caution, however, that in individual circumstances, if we find that entities are obtaining multiple FRNs for purposes of not paying fees or evading regulatory responsibilities, we will take appropriate action, such as revoking duplicative FRNs or other appropriate action.

Security Concerns

Disney expressed security concerns over the use of a single FRN as an identifier. Although Disney agrees with NAB that the Commission should “assess its electronic filing and database systems on a holistic level,” Disney felt that using a single common identifier or reference number for all filings raises significant (but unidentified) security concerns. Our licensing and other electronic systems have appropriate password protections. As in any other electronic system, password security in the CORES is vital. We do not, however, believe that any unique security issues are raised in this context.

Cingular commented that FRNs cannot be deleted, a prospect it believes is troubling if duplicate FRNs are assigned. The CORES does not permit the same FRN to be assigned more than once. Nor does the CORES allow the public to delete FRNs. However, the CORES has been revised to allow entries to be placed on inactive status by the CORES Administrator on our own or at the request of the public. Thus, when an entity informs the CORES help desk that they want to have an FRN de-activated, that FRN will no long appear when a search of the database is conducted.

Assignment of FRNs

Cingular urged that the Commission only assign FRNs upon request through the CORES or after submission of an FCC Form 160. When the CORES became operational in 2000, licenses in the Universal Licensing System (ULS), our largest database, were automatically assigned FRNs. That process, which was a one-time occurrence, is now complete. The Commission does not expect to perform any future data conversions and, as Cingular recommends, will rely on entities to request FRNs through the CORES. When the FRN becomes mandatory, an entity's FRN and other relevant data from the CORES will automatically fill in Form 159. As Disney pointed out, this process will substantially reduce data entry errors.

As we proposed in the NPRM, if we cannot reasonably expect a party to obtain an FRN, we will assign one. In the enforcement context, we note that the FRN is a primary element in the forfeiture tracking system. Many recipients of enforcement actions are current customers of the Commission and will already have an FRN issued for prior transactions. Commission staff will research the CORES to determine if a FRN exist for the alleged violator, and if none exists the staff will assign an FRN and include that FRN on the outgoing correspondence. Those who do not have a FRN will be assigned one by the enforcing bureau and will be requested to submit it with the payment of a fine or forfeiture or other payment. Entities making voluntary contributions, such as those made pursuant to a consent decree, must acquire an FRN.

The ARRL commented that foreign nationals and non-United States citizens who are not employed in the United States hold amateur licenses but have no social security number (SSN). The CORES has made provision for the registration of foreign nationals by providing the ability to register without a TIN. For foreign entities that do not yet have a TIN, the CORES will assign a nine-digit personal identification number (PIN) to the entity. The PIN will appear on the final registration confirmation page. Indeed, many of these persons were already registered in the ULS and were assigned a PIN as a substitute for a TIN. They were transferred automatically into the CORES. ARRL also stated that unincorporated amateur radio clubs have no TIN. Unincorporated amateur radio clubs owned by United States citizens that were not converted from ULS into the CORES will be required to supply a club trustee's TIN in order to obtain an FRN. Finally, ARRL asked that we amend our proposed rules to alert entities with assigned TINs to use that number, but we conclude that such instructions are best included in appropriate CORES fact sheets.

Entities being billed for fulfillment of a FOIA request will be provided with a Form 160 to be returned with their remittance. Similarly, due diligence requestors who send in requests and must pay research and copying fees will be provided with a Form 160. However, those who personally appear at the Reference Center and pay fees to make copies of Commission records will not have to obtain or provide an FRN.

TINs

We agree with Cingular that collecting TINs as well as the FRN on Form 159 is redundant. Once the FRN is mandatory and we have built a database of TIN information in the revenue system as required by the DCIA, we anticipate that the Form 159 will be revised to eliminate the TIN and other redundant information. Further, the entity database in the revenue system will be loaded from the CORES system and we will be able to associate all FRNs that apply to one TIN. In the future, the Commission would like to see the reporting of TIN information limited to the registration in the CORES and only require the TIN during the licensing process in unusual circumstances. The Commission will rely on the industry to maintain accurate information about contacts, mailing addresses and TIN information in the CORES database. Verizon Wireless asks for 90 days to update information in the CORES database. We will not set a time limit for this requirement, but advise that the information should be kept current in order to ensure proper crediting of payments. We hope that with future revisions to our systems, when information is updated in one system all systems will receive the update, as Verizon Wireless requests.

Verizon Wireless and Sprint questioned why the Commission chose not to use TINs as the identifier of choice. The TIN for individuals is the SSN, and, because of privacy requirements, could not be used as an identifier. While the TINs for business entities are not generally confidential, as Cingular points out, in some circumstances such TINs are also sensitive.

When Must FRNs be Obtained?

As we noted in the NPRM, FRNs must be obtained by anyone who is doing business with the Commission as that term is defined in the DCIA. This requirement is reflected in rule § 1.8002(a) adopted in this Order. We stated, “all businesses and individuals that file applications with the Commission—whether feeable or non-feeable—or make any payments of any type to the Commission will be required to obtain an FRN and provide it to the Commission in its filings.” We also noted that anyone who does not pay a fee because of an exception in our rules or the statute had to acquire and provide an FRN to enable us to keep track of entities that claim an exemption from paying fees.

When Must FRNs be Provided?

Cingular commented that the Commission should clearly identify when FRNs must be provided. The Commission will issue public notices as Bureaus modify their systems to require an FRN and will specify the forms or other filings that will require providing either the FRN or a Form 162. The Commission will include this information in the Frequently Asked Questions for the CORES. A list of specific instances in which the FRN must be provided will be compiled and the CORES website will link to the list. We have changed the language of proposed rule § 1.8003 to reflect our plans to issue more specific guidance as to when the FRN must be provided. We wish to repeat, as we noted in the Notice of Proposed Rulemaking, 65 FR 78455 (Dec. 15, 2000), that certain submissions to the Commission do not require the FRN, including comments filed in rulemaking proceedings, petitions to deny, petitions objecting to the issuance of a Commission authorization, letters and electronic mail communications, and reports that do not require a fee. Additionally, database searches will not require an FRN.

NECA questioned the proposal to require an FRN on non-feeable tariff submissions. The Commission may not issue a license or provide a benefit without a TIN for the applicant. As we explained in the NPRM, non-feeable applications require the FRN to facilitate compliance with the DCIA, which does not distinguish between licensees and applicants who pay fees and those who do not. Therefore requiring an FRN for non-feeable transactions is logical and necessary.

Cingular commented that the applicant and not the payer is responsible for submitting payment to the Commission, and thus it is unnecessary for counsel or representatives paying fees on behalf of applicants to submit their FRNs. The FRN of both counsel or other payer and all entities on whose behalf payment is made must be provided. The FRN of the applicant or licensee must be submitted, of course, to enable us to determine that the applicant has paid the proper fees. The FRN must be submitted by counsel or others paying on behalf of applicants to allow us to refund excess remittances where appropriate to the payer who made the payment rather than to the applicant or licensee.

NECA questions why it must provide the FRNs for the sometimes hundreds of subscribers to its group tariffs. As we have just explained, we need both the FRN of the entity making the filing with the Commission and the parties on whose behalf the filing is made. Thus, NECA must provide its FRN on the group tariff filings. It must also obtain the FRNs of the subscribing carriers and provide them to us with each tariff filing so we can know which carriers are parties to the tariff. NECA is responsible for any fees associated with the tariff filing. This obligation of a filing entity to provide FRNs for each carrier covered by a “group” tariff also applies to other “group” tariffs such as those filed by GVNW Consulting, Inc. and John Staurulakis, Inc.

The NAB further comments that the Commission can already identify the licensee who is submitting its regulatory fees by the call sign and that the Commission can fill in or correct the FRN without returning the filing. We disagree because call signs are unreliable for identifying entities in this context. Call signs are often changed and may be assigned to other entities when a station changes hands. Providing a valid FRN will ensure that payments are credited to the proper entity and appropriately remain the responsibility of the payer or the licensee.

The Disney Company sought assurance that payments may be made on behalf of an entity and that those entities receive credit for its payments. No changes are being made to the accepted practice of permitting payments to be made by third parties. However, we will require such submission to contain the FRNs for the payer and for the applicant(s) or licensee(s) on whose behalf the payment is being made. The Commission will credit the payment to the applicant or licensee and link it to the payer.

Effect of Not Providing FRNs

We wish to encourage compliance with the requirement to submit the FRN because it is necessary to the process of providing accurate links to the applicant, payer and service being requested and will facilitate compliance with the DCIA and other financial reporting requirements. There are some special circumstances, discussed below, that require a departure from our general rule that correct FRNs must be contemporaneously provided with the filings.

Cingular, Verizon, NAB, FCBA and Qwest suggested allowing filers a brief window to correct applications filed without the requisite FRN. Cingular asserts that “there simply is no public interest benefit associated with dismissing an otherwise timely filed auction payment, renewal applicant, or other filing for failure to provide an FRN without providing the applicant an opportunity to cure the oversight.” Verizon and FCBA did not recommend any specific number of days for re-submission of a defective FRN filing. Qwest on the other hand recommended five calendar days for the re-submission.

After careful consideration, we do not adopt the suggestion that all filers be given a grace period to supply an omitted FRN or correct an incorrect FRN. Electronic filing systems have been or will be modified so those filings cannot be accomplished without supplying a correct FRN. Attempts to file electronically without a FRN will result in a reminder to the filer that the FRN is required, and, if the filer does not yet have a FRN, the filer will be directed to the CORES website. This scenario includes those wishing to participate in auctions. Thus, in electronic filing circumstances, no grace period is necessary. For paper filings in instances where no time-critical deadline is involved (“Time critical deadline” means requests that must be filed by a specific deadline or be dismissed as untimely (i.e., applications filed in response to a “window” or “cut-off” list established by the Commission), the rejection of a feeable application for lack of an FRN has no impact on the filer except for the minor inconvenience of having to refile the application. No grace period is necessary in those circumstances, either. This is consistent with the approach currently in our rules that provide for the return of applications not accompanied by properly completed Form 159s and are considered filed when refiled. In those limited circumstances where there is a time-critical deadline and applications may be filed on paper, we will grant paper filers a grace period of 10 business days following notification to the filer by Commission staff to correct omitted or FRNs. Also, we will afford the 10-day grace period for appearances in hearing proceedings. The filer will be notified of the omission or FRN, and informed of the deadline for submitting the correct FRN. If FRN is provided during the grace period, the filing date will be the original date of submission. Except for filing of tariff publications, if the FRN is not provided, the filing will be returned. The proposed rules have been changed to reflect our final disposition of this issue.

Return of Filings With Defective FRNs

FCBA also comments that defective FRN filings should be returned to the affected licensee's identified authorized representative. The Commission will continue its practice of returning defective applications and payments to the payer listed on the remittance form.

Exceptions to the FRN Rule

There will be exceptions to this general rule that FRNs must be provided at the time of the filing: appearances in feeable hearing proceedings, emergency authorizations, civil monetary payments and consent decrees, and tariff filings. We have changed appropriate rules to reflect these exceptions.

Emergency authorization applications (including special temporary authorizations in emergency situations) should contain the applicant's FRN, but will not be rejected without it due to the emergency nature of such filings. An FRN will have to be supplied by the applicant or the Commission will assign one before action is taken on the request.

As explained in the NPRM, tariff publications present unique issues in part because they are filed in different formats and the related fees are paid separately from the filings. Accordingly, we sought comment on how we should treat tariff publications that omit a valid FRN should the provision of FRNs with such filings become mandatory. We also examined what action should be taken if an FRN is omitted from the fee payment related to the filing of a tariff publication.

As of the effective date of this order, carriers or their representatives will not be able to make electronic filings of tariff publications unless they use a valid FRN and the related password to obtain access to the Electronic Tariff Filing System (ETFS). In those instances where an FRN is found to be invalid or the filing entity does not have an FRN, access to the ETFS will be denied and the system will provide an automatic message explaining the procedures to obtain an FRN and including a link to the CORES system. In addition, as of the effective date, the carrier FRN must be included in the transmittal or other cover letter accompanying each tariff publication. If the carrier FRN is not included in that letter, the Commission may take such action as it deems appropriate including but not limited to rejection of the related tariff publication if it has not yet become effective, declaring the tariff publication unlawful if it has already become effective, or giving the carrier or carrier representative with up to ten (10) business days from the filing date to amend the transmittal or other cover letter to include a valid FRN.

The filing of many tariff publications with the Commission requires the payment of fees by carriers or their representatives. At this time, such fees must be paid to the lockbox bank. As of the effective date of this order, carriers or their representatives will be required to include the carrier FRN on the Remittance Advice Form with the payment of these fees. If fees for more than one carrier are paid at the same time, the FRN for each carrier must be provided clearly. However, in some instances the FCC Form 159 is not included with that payment. For example, when an electronic funds transfer is used to pay a tariff filing fee, an FCC Form 159 ordinarily is not included with that payment although the information ordinarily included on the Form 159, including the FRN, must be transmitted to the lockbox bank as part of the transaction. In such instances, as of the effective date of this order, the correct carrier(s) FRN(s) must be included with each fee payment on behalf of each carrier. If the lockbox bank receives a fee payment without an FRN, that fee payment shall be credited to the account of the Commission and the related payment information forwarded to the Commission staff for additional processing. If one or more of the carrier FRNs required to be included with the payment are missing or invalid, the Commission may take such action as it deems appropriate including but not limited to rejection of the related tariff publication if it has not yet become effective, declaring the tariff publication unlawful if it has already become effective, or giving the carrier or carrier representative up to ten (10) business days from the filing date to provide a valid FRN.

FRN Assistance

As we noted in the NPRM, additional information concerning the CORES is found in the Frequently Asked Question portion of the CORES homepage on our Internet site, located at <www.fcc.gov> by clicking on the CORES link. For further information concerning registering for an FRN, contact the CORES Administrator toll-free at 1-877-480-3201, or by e-mail at <CORES@fcc.gov>.

Final Regulatory Flexibility Certification

The Regulatory Flexibility Act of 1980, as amended (RFA), requires that a regulatory flexibility analysis be prepared for notice and comment rulemaking proceedings, unless the agency certifies that “the rule will not, if promulgated, have a significant economic impact on a substantial number of small entities.” In the NPRM we made this certification. No comments were received concerning this proposed certification. We conclude that this certification is appropriate for the rules adopted here. The rules require certain entities or individuals to obtain an FRN. A substantial number of entities doing business with the Commission automatically received their FRN by virtue of their prior registration in the ULS. We have proposed to make it extremely simple, and virtually cost-free, for anyone else to obtain an FRN. Nor will the adopted rule amendments establishing penalties for failure to provide the FRN have a significant economic impact on a substantial number of small entities. Our rules already generally provide for penalties when applications are not substantially complete. The proposed rule amendments simply conform our rules to the new FRN requirement. Therefore, the rules will not have a significant economic impact. Accordingly, we certify, pursuant to section 605(b) of the RFA, 5 U.S.C. 605(b), that the rules adopted herein will not have a significant economic impact on a substantial number of small entities. The Commission will send a copy of this Order, including a copy of this Final Regulatory Flexibility Certification in a report to Congress pursuant to the Congress Review Act. In addition, this Order and final certification will be sent to the Chief Counsel for Advocacy of the Small Business Administration and will be published in the Federal Register.

Paperwork Reduction Act

We previously obtained all requisite approvals under the Paperwork Reduction Act for the information collections proposed in the NPRM.

Pursuant to sections 4(i), 8(f), 9(f)(1), 254(d), 303(r), and 309(j) of the Communications Act of 1934, as amended, 47 U.S.C. 154(i), 158(f), 159(f)(1), 254(d), 303(r), and 309(j), and 33 U.S.C. 7701(c)(1), Parts 1, 21, 61, 73, 74, and 76 of the Commission's Rules are amended as set forth in the rule changes.

List of Subjects

47 CFR Part 1

Administrative practice and procedure, Reporting and recordkeeping requirements.

47 CFR Parts 21, 61, 73, 74 and 76

Reporting and recordkeeping requirements.

Federal Communications Commission.
William F. Caton,
Deputy Secretary.

Rule Changes

For the reasons discussed in the preamble, the Federal Communications Commission amends 47 CFR Parts 1, 21, 61, 73, 74, and 76 as follows:

PART 1—PRACTICE AND PROCEDURE

1. The authority citation for part 1 continues to read as follows:

Authority: 47 U.S.C. 151, 154(I), 154(j), 155, 225, 303(r), 309, and 325(e).

2. Section 1.42 is amended by adding a new paragraph (c) to read as follows:

§ 1.42 Applications, reports complaints; cross-reference.

* * * * *

(c) Rules governing the FCC Registration Number (FRN) are contained in subpart W of this part.

3. Section 1.77 is amended by adding a new sentence following the first sentence in the introductory text as follows:

§ 1.77 Detailed application procedures; cross-reference.

* * * Applicants should also refer to the Commission rules regarding the payment of statutory charges (subpart G of this part) and the use of the FCC Registration Number (FRN) (see subpart W of this part).

* * * * *

4. Section 1.221 is amended by redesignating paragraph (f) as paragraph (f)(1), and adding a new paragraph (f)(2) to read as follows:

§ 1.221 Notice of hearing; appearances.

* * * * *

(f) * * *

(2) When a fee is required to accompany a written appearance as described in paragraph (f)(1) of this section, the written appearance must also contain FCC Registration Number (FRN) in conformance with subpart W of this part. The presiding judge will notify the party filing the appearance of the omitted FRN and dismiss the applicant with prejudice for failure to prosecute if the written appearance is not resubmitted with the FRN within ten (10) business days of the date of notification.

* * * * *

5. Section 1.721 is amended by removing the word “and” at the end of paragraph (a)(13), by removing the period and by adding “; and” at the end of paragraph (a)(14), and by adding a new paragraph (15) to read as follows:

§ 1.721 Format and content of complaints.

* * * * *

(a) * * *

(15) A FCC Registration Number is required under Part 1, Subpart W. Submission of a complaint without the FCC Registration Number as required by Part 1, subpart W will result in dismissal of the complaint.

* * * * *

6. Section 1.934 is amended by removing the word “or” at the end of paragraph (d)(2), and by removing the period and by adding “; or” at the end of paragraph (d)(3), and by adding a new paragraph (d)(4) to read as follows:

§ 1.934 Defective applications and dismissal.

* * * * *

(d) * * *

(4) The FCC Registration Number (FRN) has not been provided.

* * * * *

7. Add a new subpart W to read as follows:

Subpart W—FCC Registration Number

§ 1.8001 FCC Registration Number (FRN).

§ 1.8002 Obtaining an FRN.

§ 1.8003 Providing the FRN in Commission filings.

§ 1.8004 Penalty for failure to provide the FRN.

§ 1.8001 FCC Registration Number (FRN).

(a) The FCC Registration Number (FRN) is a 10-digit unique identifying number that is assigned to entities doing business with the Commission.

(b) The FRN is obtained through the Commission Registration System (CORES) over the Internet at the CORES link at <www.fcc.gov> or by filing FCC Form 160.

§ 1.8002 Obtaining an FRN.

(a) The FRN must be obtained by anyone doing business with the Commission, see 31 U.S.C. 7701(c)(2), including but not limited to:

(1) Anyone required to pay statutory charges under subpart G of this part;

(2) Anyone applying for a license, including someone who is exempt from paying statutory charges under subpart G of this part, see §§ 1.1114 and 1.1162;

(3) Anyone participating in a spectrum auction;

(4) Anyone holding or obtaining a spectrum auction license or loan; and

(5) Anyone paying statutory charges on behalf of another entity or person.

(b)(1) When registering for an FRN through THE CORES, an entity's name, entity type, contact name and title, address, and taxpayer identifying number (TIN) must be provided. For individuals, the TIN is the social security number (SSN).

(2) Information provided when registering for an FRN must be kept current by registrants either by updating the information on-line at the CORES link at <www.fcc.gov> or by filing FCC Form 161 (CORES Update/Change Form).

(c) A business may obtain as many FRNs as it deems appropriate for its business operations. Each subsidiary with a different TIN must obtain a separate FRN. Multiple FRNs shall not be obtained to evade payment of fees or other regulatory responsibilities.

(d) An FRN may be assigned by the Commission, which will promptly notify the entity of the assigned FRN.

§ 1.8003 Providing the FRN in Commission Filings.

The FRN must be provided with any filings requiring the payment of statutory charges under subpart G of this part, anyone applying for a license, including someone who is exempt from paying statutory charges under subpart G of this part, anyone participating in a spectrum auction, making up-front payments or deposits in a spectrum auction, anyone making a payment on an auction loan, anyone making a contribution to the Universal Service Fund, and anyone paying a or other payment. A list of applications and other instances where the FRN is required will be posted on our Internet site and linked to the CORES page.

§ 1.8004 Penalty for Failure to Provide the FRN.

(a) Electronic filing systems for filings that require the FRN will not accept a filing without the appropriate FRN. If a party seeks to make an electronic filing and does not have an FRN, the system will direct the party to the CORES website to obtain an FRN.

(b) Except as provided in paragraph (d) of this section or in other Commission rules, filings subject to the FRN requirement and submitted without an FRN will be returned or dismissed.

(c) Where the Commission has not established a filing deadline for an application, a missing or invalid FRN on such an application may be corrected and the application resubmitted. Except as provided in paragraph (d) of this section or in other Commission rules, the date that the resubmitted application is received by the Commission with a valid will be considered the official filing date.

(d) Except for the filing of tariff publications (see 47 CFR 61.1(b)) or as provided in other Commission rules, where the Commission has established a filing deadline for an application and that application may be filed on paper, a missing or invalid CORESID on such an application may be corrected within ten (10) business days of notification to the filer by the Commission staff and, in the event of such timely correction, the original date of filing will be retained as the official filing date.

PART 21—DOMESTIC PUBLIC FIXED RADIO SERVICES

8. The authority citation for Part 21 continues to read as follows:

Authority: Secs. 1, 2, 4, 201-205, 208, 215, 218, 303, 307, 313, 403, 404, 410, 602, 48 Stat. as amended, 1064, 1066, 1070-1073, 1076, 1077, 1080, 1082, 1083, 1087, 1094, 1098, 1102; 47 U.S.C. 151, 154, 201-205, 208, 215, 218, 303, 307, 313, 314, 403, 404, 602; 47 U.S.C. 552, 554.

9. Section 21.20 is amended by removing the word “or” at the end of paragraph (b)(9), and by removing the period and by adding “; or” at the end of paragraph (b)(10), and by adding a new paragraph (b)(11) to read as follows:

§ 21.20 Defective applications.

* * * * *

(b) * * *

(1) The application does not contain the FCC Registration Number (FRN) as required under subpart W of part 1 of this part.

PART 61—TARIFFS

10. The authority citations for part 61 continue to read as follows:

Authority: Secs. 1, 4(i), 4(j), 201-205, and 403 of the Communications Act of 1934, as amended; 47 U.S.C. 151, 154(i), 154(j), 201-205, and 403, unless otherwise noted.

11. Section 61.1 is amended by revising paragraph (b) to read as follows:

§ 61.1 Purpose and application.

* * * * *

(b) Tariff publications filed with the Commission must conform to the rules in this part and with Commission rules regarding the payment of statutory charges (see subpart G of part 1 of this title) and the use of FCC Registration Numbers (FRNs) (see subpart W of part 1 of this title). Failure to comply with any provisions of these rules may be grounds for rejection of the non-complying publication, a determination that it is unlawful or other action. Where an FRN has been omitted from a cover letter or transmittal accompanying a tariff publication filed under this part or the FRN included in that letter is invalid, the submitting carrier or carrier representative shall have ten (10) business days from the date of filing to amend the cover letter or transmittal to include a valid FRN. If within that ten (10) business day period, the carrier or carrier representative amends the cover letter or transmittal to include a valid FRN, that FRN shall be deemed to have been included in the letter as of its original filing date. If, after the expiration of the ten (10) business day period, the cover letter or transmittal has not been amended to include a valid FRN, the related tariff publication may be rejected if it has not yet become effective, declared unlawful if it has become effective, or subject to other action.

* * * * *

12. Section 61.15 is amended by removing the period and adding a semicolon at the end of paragraph (a)(3) and by adding a new paragraph (a)(4) to read as follows:

§ 61.15 Letters of transmittal and cover letters.

* * * * *

(a) * * *

(4) Include the FCC Registration Number (FRN) of the carrier(s) on whose behalf the cover letter is submitted. See subpart W of part 1 of this title.

* * * * *

13. Section 61.21 is amended by adding a new paragraph (a)(3) to read as follows:

§ 61.21 Cover letters.

* * * * *

(a) * * *

(3) All cover letters and letters of transmittal shall include the FCC Registration Number (FRN) of the issuing carrier(s) on whose behalf the letter is submitted. See part 1, subpart W of this chapter.

* * * * *

14. Section 61.33 is amended by removing the word “and” at the end of paragraph (a)(3), and by adding a semi-colon at the end of paragraph (a)(3) and adding “; and” at the end of paragraph (a)(4); and by adding a new paragraph (a)(5) to read as follows:

§ 61.33 Letters of transmittal.

(a) * * *

(5) Include the FCC Registration Number (FRN) of the carrier(s) on whose behalf the letter is submitted. See part 1, subpart W of this chapter.

* * * * *

PART 73—RADIO BROADCAST SERVICES

15. The authority citation for part 73 continues to read as follows:

Authority: 47 U.S.C. 154, 303, 334 and 336.

Section 73.1010 is amended by adding a new paragraph (a)(9) to read as follows:

§ 73.1010 Cross reference to rules in other parts.

(a) * * *

(9) Part 1, Subpart W of this chapter, “FCC Registration Number”. (§§ 1.8001-1.8005.)

* * * * *

PART 74—EXPERIMENTAL RADIO, AUXILIARY, SPECIAL BROADCAST AND OTHER PROGRAM DISTRIBUTIONAL SERVICES

16. The authority citation for part 74 continues to read as follows:

Authority: 47 U.S.C. 154, 303, 307, 336(F), and 559.

17. Section 74.5 is amended by adding a new paragraph (a)(7) to read as follows:

§ 74.5 Cross-reference to rules in other parts.

(a) * * *

(7) Part 1, Subpart W of this chapter, “FCC Registration Number”. (§§ 1.8001-1.8005.)

* * * * *

PART 76—MULTICHANNEL VIDEO AND CABLE TELEVISION SERVICE

18. The authority citation for part 76 continues to read as follows:

Authority: 47 U.S.C. 151, 152, 153, 154, 301, 302, 303, 303a, 307, 308, 309, 312, 317, 325, 503, 521, 522, 531, 532, 534, 535, 536, 537, 543, 544, 544a, 545, 548, 549, 552, 554, 556, 558, 560, 561, 572, 573.

19. Section 76.1610 is amended by adding paragraph (f) to read as follows:

§ 76.1610 Change of operational information.

* * * * *

(f) The operator's FCC Registration Number (FRN) as required under part 1, subpart W of this chapter.

* * * * *

[FR Doc. 01-22969 Filed 9-13-01; 8:45 am]

BILLING CODE 6712-01-P